DEPARTMENT OF ENERGY

Federal Energy Regulatory Commission

[Docket No. ER00-3057-001]

Indiana Michigan Power Company, d/b/a American Electric Power; Notice of Filing

January 31, 2001.

Take notice that on December 19, 2000, Indiana Michigan Power Company, d/b/a American Electric Power (AEP), tendered for filing revised Service Agreements (SAs) with the members of the Indiana and Michigan Municipal Distributors Association (IMMDA). The SAs were revised in accordance with the Federal Energy Regulatory Commission's (FERC) August 3, 2000, Letter Order in this docket requesting the filing of rate schedule designations as required in Order No. 614, FERC Stats. & Regs. ¶ 31,096 (2000).

AEP requests that the revised SAs be accepted for filing in accordance with the FERC's August 3, 2000, Letter Order and in accordance with Order No. 614, FERC Stats. & Regs. ¶ 31,096 (2000).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-3263 Filed 2-7-01; 8:45 am]

BILLING CODE 6717-01-M